DEPARTMENT OF ENERGY

Federal Energy Regulatory Commission

[Docket No. RP00-551-000]

Sea Robin Pipeline Company; Notice of Proposed Changes in FERC Gas Tariff

September 25, 2000.

Take notice that on September 18, 2000, Sea Robin Pipeline Company (Sea Robin) tendered for filing as part of its FERC Gas Tariff, First Revised Volume No. 1, the revised tariff sheets listed on Appendix A attached to the filing, to be effective November 1, 2000.

Sea Robin states that the purpose of this filing, made in accordance with the provisions of Section 154.204 of the Commission's Regulations, is to reflect tariff changes necessitated by the transition to the MessengerSM system and to conform certain business practices to GISB standards and the MessengerSM operating system. On March 15, 2000, Trunkline Gas Company (Trunkline) acquired Sea Robin from Southern Natural Gas Company (SONAT). In conjunction with this transaction, Trunkline entered into a Transition Agreement to ensure the smooth operation of the Sea Robin pipeline system for a period of up to eleven months from the closing date. Trunkline now intends to assume daily operations and transfer all Sea Robin functions currently performed by SONAT to the MessengerSMelectronic communication system on November 1, 2000. Shippers will continue to use SONAT's electronic interface system (SoNet Premier) until Trunkline implements the MessengerSM system for Sea Robin.

Specifically, these modifications: (1) Replace references to the SoNet Premier bulletin board with MessengerSM; (2) change dispatching and emergency addresses and telephone numbers in the form of service arrangements from SONAT's offices in Birmingham, Alabama to Sea Robin's office in Houston, Texas; (3)( provide that quantities of gas be stated in Dth rather than Mcf; (4) add processing language to Section 23 of the General Terms and Conditions and remove the Liquefiables Transportation Agreement and corresponding rates, definition and references; (5) revise Sections 1.31 and 2.4(b) of the General Terms and Conditions to reflect the predetermined allocation methodology types required by GISB Standard 2.3.16; (6) conform the time line for invoice adjustments in the General Terms and Conditions Section 8.3 to GISB Standard 3.3.15; (7) delete the requirement in Section 24 of the General Terms and Conditions that shippers execute a written agreement/amendment after shipper has executed the agreement electronically via MessengerSM; and (8) delete from Rate Schedule FTS, Section 3 which provides for a 24 hour notice requirement prior to bumping flowing interruptible service which conflicts with the four daily nomination and scheduling cycles prescribed by GISB.

Sea Robin states that copies of this filing are being served on all affected customers and applicable state regulatory agencies.

Any person desiring to protest this filing should file a protest with the Federal Energy Regulatory Commission, 888 First Street, NE., Washington, DC 20426, in accordance with section 385.211 of the Commission's Rules and Regulations. All such protests must be filed as provided in section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-24994 Filed 9-28-00; 8:45 am]

BILLING CODE 6717-01-M